DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Rockfish Pilot Program.

OMB Control Number: 0648-0545.

Form Number(s): None.

Type of Request: Regular submission.

Number of Respondents: 55.

Average Hours per Response: Applications for cooperative fishing quota, limited access fishery, entry-level fishery, and application to opt out of rockfish fishery, 2 hours each; application for inter-cooperative transfer of cooperative quota, 1 hour; cooperative catch report, 30 minutes; annual cooperative report, 40 hours; rockfish cooperative termination of fishing declaration, 15 minutes; vessel check-in/check out reports, 20 minutes; appeals, 4 hours.

Burden Hours: 496.

Needs and Uses: As part of planning by the North Pacific Fishery Management Council under the Magnuson-Stevens Fishery Conservation and Management Act, the Rockfish Pilot Program was developed for management of three rockfish fisheries in the Central Gulf of Alaska (CGOA) in the Exclusive Economic Zone off the coast of Alaska. The Program was implemented in order to improve the economic efficiency of the CGOA rockfish fisheries and was designed to result in a slower-paced fishery that would allow the harvester to choose when to fish and therefore avoid poor weather and also to provide greater stability for processors by spreading production over a greater period of time. The Rockfish Pilot Program is scheduled to end December 31, 2011.

Affected Public: Business or other for-profit organizations.

Frequency: Annually and on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 14, 2009.
Gwellnar Banks,
Management Analyst, Office of the Chief Information Officer.

[FR Doc. E9-17031 Filed 7-16-09; 8:45 am]

BILLING CODE 3510-22-P